DEPARTMENT OF TRANSPORTATION

Federal Aviation Administration

Notice of Intent To Rule on Application To Impose and Use the Revenue From a Passenger Facility Charge (PPC) at Southwest Georgia Regional Airport, Albany, GA

AGENCY: Federal Aviation Administration (FAA), DOT.

ACTION: Notice of intent to rule on application.

SUMMARY: The FAA proposes to rule and invites public comment on the application to impose and use the revenue from a PPC at Southwest Georgia Regional Airport under the provisions of the Aviation Safety and Capacity Expansion Act of 1990 (title IX of the Omnibus Budget Reconciliation Act of 1990) (Pub. L. 101-508) and part 158 of the Federal Aviation Regulations (14 CFR part 158).

DATES: Comments must be received on or before December 20, 2002.

ADDRESSES: Comments on this application may be mailed or delivered in triplicate to the FAA at the following address: Atlanta Airports District Office, Federal Aviation Administration, DOT, 1701 Columbia Avenue, Suite 2-260, College Park, Georgia 30337-2747.

In addition, one copy of any comments submitted to the FAA must be mailed or delivered to Mr. Richard C. Howell, Airport Director of the Albany-Dougherty County Aviation Commission (ADCAA) at the following address: 3905 Newton Road, Albany, Georgia 31707-3460.

Air carriers and foreign air carriers may submit copies of written comments previously provided to the ADCAA under § 158.23 of part 158.

FOR FURTHER INFORMATION CONTACT: Philip Cannon, Program Manager, Atlanta Airports District Office, 1701 Columbia Avenue, Suite 2-260, College Park, Georgia 30337-2747. (404) 305-7152.

The application may be reviewed in person at this same location.

SUPPLEMENTARY INFORMATION: The FAA proposes to rule and invites public comment on the application to impose and use the revenue from a PFC at Southwest Georgia Regional Airport under the provisions of the Aviation Safety and Capacity Expansion Act of 1990 (title IX of the Omnibus Budget Reconciliation Act of 1990) (Pub. L. 101-508) and part 158 of the Federal Aviation Regulations (14 CFR part 158).

On November 6, 2002, the FAA determined that the application to impose and use the revenue from a PFC submitted by ADCAA was substantially complete within the requirements of § 158.25 of part 158. The FAA will approve or disapprove the application, in whole or in part, no later than February 8, 2003.

The following is a brief overview of the application.

PFC Application No.: 03-03-C-00-ABY.

Level of the proposed PFC: $4.50.

Proposed charged effective date: August 1, 2003.

Proposed charged expiration date: July 1, 2006.

Total estimated PFC revenue: $456,648.

Brief description of proposed project(s):

1. Airfield fence/locks replacement.

2. Baggage claim enclosure.

3. Terminal environmental (phase I).

4. PFC application charges.

5. AIP local share reimbursement, rapid response ARFF vehicle and ARFF generator.

6. AIP local share reimbursement, design cargo apron—phase I and II and install runway visual guidance system.

7. AIP local share reimbursement, construct cargo apron—phase I and II.

Class or classes of air carriers which the public agency has requested not be required to collect PFCs: Part 135 air taxi/commercial operators.

Any person may inspect the application in person at the FAA office listed above under For Further Information Contact.

In addition, any person may, upon request, inspect the application, notice and other documents germane to the application in person at the ADCAA.

Issued in College Park, Georgia, on November 7, 2002.
Scott L. Seritt,
Manager, Atlanta Airports District Office, Southern Region.

[FR Doc. 02-29444 Filed 11-19-02; 8:45 am]

BILLING CODE 4910-13-M